DEPARTMENT OF ENERGY

Federal Energy Regulatory Commission

Notice of Application for Non-Project Use of Project Lands and Waters and Soliciting Comments, Motions To Intervene, and Protests

December 6, 2005.

Take notice that the following application has been filed with the Commission and is available for public inspection:

a. Application Type: Non-Project Use Of Project Lands and Waters.

b. Project No: 2146-112.

c. Date Filed: November 14, 2005.

d. Applicant: Alabama Power Company.

e. Name of Project: The Coosa River Project, which includes the Weiss Lake development.

f. Location: The proposed action will take place at the Weiss Lake development at Kessler's Subdivision on Three Mile Creek, which is located in Cherokee County, Alabama approximately 21 stream miles above the Weiss powerhouse.

g. Filed Pursuant to: Federal Power Act, 16 U.S.C. 791(a) 825(r) and 799 and 801.

h. Applicant Contact: Mr. Keith E. Bryant, Sr. Engineer; Alabama Power Company Hydro Services; 600 18th Street North, Birmingham, AL 35203; (205) 257-1403.

i. FERC Contact: Any questions on this notice should be addressed to Lesley Kordella at (202) 502-6406, or by e-mail: Lesley.Kordella@ferc.gov.

j. Deadline for filing comments and or motions: January 3, 2006.

All documents (original and eight copies) should be filed with: Ms. Magalie R. Salas, Secretary, Federal Energy Regulatory Commission, 888 First Street, NE., Washington DC 20426. Please include the project number (P-2146-112) on any comments or motions filed. Comments, protests, and interventions may be filed electronically via the internet in lieu of paper. See, 18 CFR 385.2001(a)(1)(iii) and the instructions on the Commission's Web site under the “e-Filing” link. The Commission strongly encourages e-filings.

k. Description of Request: The licensee has requested Commission approval to construct a 22 slip boat house and boat ramp for use by individual owners of the Kessler subdivision on Three Mile Creek. The proposed dock structure and boat ramp would be located on a community access waterfront lot at the east end of the subdivision, which consists of approximately 90 feet of shoreline. The proposed boat dock would be constructed of treated lumber and supported on driven piles. The proposed boat ramp is to be a single land ramp constructed of concrete. Minimal grading is expected. There will be no septic tanks or field lines, or facilities for fueling or sewage pump out. There will be no dredging during construction and the boat dock structure will be built on site.

l. Location of the Application: This filing is available for review at the Commission or may be viewed on the Commission's web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, state, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E5-7211 Filed 12-9-05; 8:45 am]

BILLING CODE 6717-01-P